DEPARTMENT OF COMMERCE

National Oceanic and Atmospheric Administration

50 CFR Part 217

RIN 0648-AX09

Taking and Importing Marine Mammals; Taking Marine Mammals Incidental to Operation and Maintenance of the Neptune Liquefied Natural Gas Facility of Massachusetts; Correction

AGENCY: National Marine Fisheries Service (NMFS), National Oceanic and Atmospheric Administration (NOAA), Commerce.

ACTION: Final rule; correction.

SUMMARY: NMFS, upon application from Neptune LNG LLC (Neptune), issued regulations pursuant to the Marine Mammal Protection Act (MMPA) to govern the unintentional taking of marine mammals, by harassment, incidental to port commissioning and operations, including maintenance and repair activities, at the Neptune Deepwater Port (the Port) in Massachusetts Bay for a period of 5 years. The final rule, which published in the Federal Register on June 13, 2011, contains an incorrect ending date for the period of effectiveness. The rule was to be effective 30 days after the date of filing for publication in the Federal Register, which was Friday, June 10, 2011, through 5 years and 30 days after the date of filing for publication in the Federal Register. The effectiveness dates in the current final rule are listed as July 11, 2011, through August 10, 2016, which is 1 month too long. This notice corrects the period of effectiveness for the final rule.

DATES: Effective from July 11, 2011, through July 10, 2016.

FOR FURTHER INFORMATION CONTACT: Candace Nachman, Office of Protected Resources, NMFS, (301) 713-2289, ext 156.

SUPPLEMENTARY INFORMATION:

Need for Correction

On June 13, 2011, final regulations for the take of marine mammals incidental to the operation and repair and maintenance of the Neptune Port off Massachusetts published in the Federal Register (76 FR 34157; FR Doc. 2011-14614). The period of effectiveness in that notice is listed as July 11, 2011, through August 10, 2016. This means that the rule would be effective for 5 years and 1 month. However, regulations issued pursuant to section 101(a)(5)(A) of the MMPA cannot be valid for a period of more than 5 consecutive years. Therefore, the period of effectiveness for the regulations now contained in 50 CFR 217.171 are effective from July 11, 2011, through July 10, 2016.

List of Subjects in 50 CFR Part 217

Exports, Fish, Imports, Indians, Labeling, Marine mammals, Penalties, Reporting and recordkeeping requirements, Seafood, Transportation.

Dated: June 14, 2011.
John Oliver,
Deputy Assistant Administrator for Operations, National Marine Fisheries Service.

For reasons set forth in the preamble, FR Doc. 2011-14614, published June 13, 2011, at 76 FR 34157, is corrected as follows:

1. On page 34157, second column, the DATES section is revised to read as follows:

“DATES: Effective from July 11, 2011, through July 10, 2016.”

2. On page 34172, third column, § 217.171 is revised to read as follows:

“§ 217.171 Effective dates.

Regulations in this subpart are effective from July 11, 2011, through July 10, 2016.”

[FR Doc. 2011-15318 Filed 6-20-11; 8:45 am]

BILLING CODE 3510-22-P